NATIONAL SCIENCE FOUNDATION

Notice of Intent To Seek Approval To Establish an Information Collection

AGENCY: National Science Foundation.

ACTION: Notice and Request for Comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than 3 years.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

DATES: Written comments on this notice must be received by December 21, 2009 to be assured of consideration. Comments received after that date will be considered to the extent practicable.

FOR ADDITIONAL INFORMATION OR COMMENTS: Contact Suzanne H. Plimpton, Reports Clearance Officer, National Science Foundation, 4201 Wilson Boulevard, Suite 295, Arlington, Virginia 22230; telephone (703) 292-7556; or send e-mail to splimpto@nsf.gov. You also may obtain a copy of the data collection instrument and instructions from Ms. Plimpton.

SUPPLEMENTARY INFORMATION:

Title of Collection: Partnership for Innovation Program: Research and Technology Development Outcomes.

OMB Number: 3145-NEW.

Expiration Date of Approval: Not applicable.

Proposed Project: The proposed National Science Foundation Survey will collect data from a sample of about 443 companies that are partners on 84 PFI awards from 2003-2007 in order to examine research and technology development outcomes related to their participation on a PFI award.

Use of the Information: Analysis of these data is necessary to provide information to provide outcome evaluation and improvement evaluation of the Partnership for Innovation Program and to better understand the impact of some aspects of industry-university partnerships on companies.

Respondents: The Survey will be sent to companies that participated in 84 Partnerships for Innovation projects from 2003 to 2007. In total, we estimate that there are 443 companies affiliated with the 84 PFI projects.

Burden on the Public: The Foundation estimates about 300 responses annually at 20 minutes per response; this totals to approximately 75 hours annually.

Dated: October 16, 2009.
Suzanne H. Plimpton,
Reports Clearance Officer, National Science Foundation.

[FR Doc. E9-25329 Filed 10-20-09; 8:45 am]

BILLING CODE 7555-01-P